DEPARTMENT OF THE INTERIOR

Minerals Management Service

Agency Information Collection Activities: Proposed Collection; Comment Request

AGENCY: Minerals Management Service (MMS), Interior.

ACTION: Notice of extension and revision of a currently approved information collection (OMB Control Number 1010-0114).

SUMMARY: To comply with the Paperwork Reduction Act of 1995 (PRA), we are inviting comments on a collection of information that we will submit to the Office of Management and Budget (OMB) for review and approval. The information collection request (ICR) concerns the paperwork requirements in the regulations under 30 CFR 250, subpart A, General.

DATES: Submit written comments by January 25, 2002.

ADDRESSES: Mail or hand-carry comments to the Department of the Interior; Minerals Management Service; Attention: Rules Processing Team; Mail Stop 4024; 381 Elden Street; Herndon, Virginia 20170-4817. If you wish to e-mail comments, the e-mail address is: rules.comments@mms.gov. Reference “Information Collection 1010-0114” in your e-mail subject line. Include your name and return address in your e-mail message and mark your message for return receipt.

FOR FURTHER INFORMATION CONTACT: Alexis London, Rules Processing Team, telephone (703) 787-1600. You may also contact Alexis London to obtain a copy at no cost of the regulations that require the subject collection of information.

SUPPLEMENTARY INFORMATION: Title: 30 CFR 250, Subpart A, General.

OMB Control Number: 1010-0114.

Abstract: The Outer Continental Shelf (OCS) Lands Act, as amended, 43 U.S.C. 1331 et seq., requires the Secretary of the Interior to preserve, protect, and develop oil and gas resources in the OCS in a manner which is consistent with the need to make such resources available to meet the Nation's energy needs as rapidly as possible; balance orderly energy resource development with protection of human, marine, and coastal environments; ensure the public a fair and equitable return on resources of the OCS; and preserve and maintain free enterprise competition. Section 1332(6) of the OCS Lands Act requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to MMS. To carry out these responsibilities, MMS has issued regulations for leasing and operations on the OCS. The ICR to be submitted to OMB for review and approval concerns the reporting and recordkeeping elements of the 30 CFR 250, subpart A, General regulations and related forms and Notices to Lessees and Operators (NTLs).

Federal policy and statutes require us to recover the cost of services that confer special benefits to identifiable non-Federal recipients. Section 250.165 requires a State lessee to pay a fee when applying for a right-of-use and easement on the OCS. The Independent Offices Appropriation Act (31 U.S.C. 9701), OMB Circular A-25, and the Omnibus Appropriations Bill (Pub. L. 104-133, 110 Stat. 1321, April 26, 1996) authorize agencies to collect these fees to reimburse us for the cost to process applications or assessments. This fee is the same as that required for filing pipeline right-of-way applications as specified in § 250.1010(a).

The MMS OCS Regions use the information collected under subpart A to ensure that operations on the OCS are carried out in a safe and pollution-free manner, do not interfere with the rights of other users on the OCS, and balance the development of OCS resources with the protection of the environment. Responses are mandatory. No questions of a “sensitive” nature are asked. MMS will protect proprietary information according to the Freedom of Information Act (5 U.S.C. 552) and its implementing regulations (43 CFR 2), 30 CFR 250.196 (Data and information to be made available to the public) and 30 CFR part 252 (OCS Oil and Gas Information Program).

Frequency: The frequency varies by section, but is generally “on occasion.”

Estimated Number and Description of Respondents: Approximately 1 State and 130 Federal OCS oil and gas or sulphur lessees.

Estimated Reporting and Recordkeeping “Hour” Burdens: The following chart details the individual reporting and recordkeeping requirements and respective hour burden estimates of the ICR we will submit to OMB. In calculating the burdens, we assumed that respondents perform certain requirements in the normal course of their activities. We consider these to be usual and customary and took that into account in estimating the burden. We welcome your comments on our estimates of the burden hours for these requirements.

Citation 30 CFR 250 subpart A and related forms/NTLs | Reporting or recordkeeping requirement | Hour burden per response/record
Reporting Requirements
104 | Appeal orders or decisions—burden included with 30 CFR 290 (1010-0121) |
109(a); 110 | Submit welding, burning, and hot tapping plans | 2
115; 116 | Request determination of well producibility; submit data & information; notify MMS of test | 3
118; 119; 121; 124 | Apply for injection or subsurface storage of gas | 8
133 | Request reimbursement for food, quarters, and transportation provided to MMS representatives (OCS Lands Act specifies reimbursement; no requests received in many years; minimal burden) | 1
135 (MMS internal process) | Submit performance improvement plan under MMS implementing procedures for enforcement actions | 20
140 | Request various oral approvals not specifically covered elsewhere in regulatory requirements | ¼
141 | Request approval to use new or alternative procedures, including BAST, not specifically covered elsewhere in regulatory requirements | 7
142 | Request approval of departure from operating requirements not specifically covered elsewhere in regulatory requirements | 2
143; 144; 145; Form MMS-1123 | Submit designation of operator & report change of address or notice of termination; submit designation of local agent | ¼
150; 151; 152; 154(a) | Name and identify facilities, etc., with signs | 2
150; 154(b) | Identify wells with paint or signs | 1
160; 161 | OCS lessees: Apply for right of use and easement to construct and maintain off-lease platforms, artificial islands, and installations and other devices | 5
165 | State lessees: Apply for right-of-use and easement to construct and maintain off-lease platforms, artificial islands, and installations and other devices | 5
166 | State lessees: Furnish surety bond—burden included with 30 CFR 256 (1010-0006) |
168; 170; 171; 172; 174; 175; 177; 180(b), (d) | Request suspension of operations (SOO) or production (SOP); submit schedule of work leading to commencement | 10
Condition of approval of | Submit progress reports on SOO or SOP | 2
177(a) | Conduct site-specific study; submit results. No instances requiring this study in several years—could be necessary if a situation occurred such as severe damage to a platform or structure caused by a hurricane or a vessel collision | 80
177(b), (c), (d); 182; 183, 185; 194 | Various references to submitting new, revised, or modified exploration plan, development/production plan, or development operations coordination document, and related surveys/reports—burden included with 30 CFR 250, subpart B (1010-0049) |
180(a), (f), (g), (h), (i), (j) | Notify and submit report on various leaseholding operations and lease production activities | ½
180(e) | Request more than 180 days to resume operations | 3
181(d); 182(b), 183(b)(2) | Request termination of suspension and cancellation of lease (no requests in recent years for termination/cancellation of a lease; minimal burden) | 30
184 | Request compensation for lease cancellation. OCS Lands Act specifies compensation (no qualified lease cancellations in many years; minimal burden compared to benefit) | 50
190 | Submit requests, applications, and notices under various regulations—burden included with applicable requirement |
191 | Report accidents, deaths, serious injuries, fires, explosions and blowouts | 7
191(a) | Report spills of oil—burden included with 30 CFR 254 (1010-0091) |
192; Form MMS-132 | Daily report of evacuation statistics for natural occurrence/hurricane (form MMS-132 used in Gulf of Mexico OCS Region (GOMR)) | 1
193 | Report apparent violations or non-compliance | 1
194 exception requests; NTL | Request departures from conducting archaeological resources surveys and/or submitting reports in GOMR | 1
194(c) | Report archaeological discoveries (only one instance in many years; minimal burden) | 1
195 | Submit data/information for post-lease geological and geophysical activity and request reimbursement—burden included with 30 CFR 251 (1010-0048) |
Recordkeeping Requirements
108(a) | Retain records of crane inspection, testing, and maintenance for 2 years; crane operator qualifications 4 years | 2
109(b) | Retain welding, burning, and hot tapping plan and approval for the life of the facility | ½
132(b)(3) | Make available all records related to inspection not specifically covered elsewhere in regulatory requirements | 1

Estimated Reporting and Recordkeeping “Non-Hour Cost” Burden: The application filing fee required in § 250.165 is the only paperwork cost burden identified for the subpart A regulations. This filing fee is currently set at $2,350.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. The application fee discussed previously is the only identified non-hour cost burdens for the information collection aspects of 30 CFR 250, subpart A. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: November 7, 2001.
E. P. Danenberger,
Chief, Engineering and Operations Division.

[FR Doc. 01-29382 Filed 11-23-01; 8:45 am]

BILLING CODE 4310-MR-W